DEPARTMENT OF HEALTH AND HUMAN SERVICES

Administration for Children and Families

Submission for Office of Management and Budget Review; Head Start Program Performance Standards (Office of Management and Budget #: 0970-0148)

AGENCY: Office of Head Start, Administration for Children and Families, U.S. Department of Health and Human Services.

ACTION: Request for public comments.

SUMMARY: The Administration for Children and Families (ACF) is requesting a 3-year extension of the information collection requirements under the Head Start Program Performance Standards (Office of Management and Budget (OMB) #0970-0148, expiration August 31, 2024). On August 21, 2024, the Office of Head Start (OHS) published a final rule: Supporting the Head Start Workforce and Consistent Quality Programming. This information collection contains changes to recordkeeping requirements as described in this final rule.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Section 641A of the Head Start Act, 42 U.S.C. 9836A, directs the U.S. Department of Health and Human Services to develop “scientifically based and developmentally appropriate education performance standards related to school readiness” and “ensure that any such revisions in the standards do not result in the elimination of or any reduction in quality, scope, or types of health, educational, parental involvement, nutritional, social, or other services.” This information collection is entirely record keeping and does not contain any standardized instruments to provide flexibility for local programs. These records are intended to act as a tool for grantees and delegate agencies to be used in their day-to-day operations. For example, this includes the requirement that programs maintain a waiting list of eligible families. On August 21, 2024, OHS published a final rule, Supporting the Head Start Workforce and Consistent Quality Programming (89 FR 67720). This information collection contains changes to recordkeeping requirements as described in this final rule.

Respondents: Head Start grant recipients. Depending on the standard, the calculated burden hours is based on the individual enrollee, family, grant, program, or staff. In a few cases, only a proportion of one of these may apply.

Annual Burden Estimates
Instrument | Annual number of respondents | Annual number of responses per respondent | Average annual burden hours per response | Annual burden hours
Maintain written impasse procedures for resolving internal disputes | 2,900 | 1 | 0.7 | 2,030
Documenting eligibility | 260,000 | 1 | 0.25 | 65,000
Maintain a waiting list | 2,900 | 1 | 2 | 5,800
Track attendance | 2,900 | 1 | 5 | 14,500
Written plan to support program participation following temporary suspension | 150 | 1 | 1 | 150
Obtain child developmental screenings and conduct standardized and structured assessment for individualizations | 800,000 | 1 | 1 | 800,000
Dual Language Learners Assessment | 269,000 | 1 | 2 | 538,000
Obtain determinations of child health status, source of health care, and identify each child's nutritional health needs | 800,000 | 1 | 0.66 | 528,000
Documents lack of available funds for assessment and treatment | 2,900 | 1 | 0.5 | 1,450
Maintaining records on the administration of medication | 2,900 | 1 | 0.5 | 1,450
Maintenance of plan to prevent exposure to lead in water and paint | 1,900 | 1 | 0.5 | 950
Waiver to family service worker assignment ratios | 190 | 1 | 1 | 190
Joint agreements, procedures, or contracts with community organizations and memorandum of understanding with the appropriate local entity responsible for managing publicly funded preschool programs in the service area of the program | 2,900 | 1 | 0.166 | 481
Documenting services to enrolled pregnant women | 13,000 | 1 | 0.5 | 6500
Tracking wages for Head Start staff and staff in local school districts | 2,900 | 1 | 5 | 14,500
Criminal record checks | 74,000 | 1 | 0.33 | 24,420
Ensure all staff has an initial health examination and periodic re-examination | 25,000 | 1 | 0.25 | 6,250
Regular volunteer screening for tuberculosis | 2,900 | 1 | 0.166 | 481
Maintain automated accounting and recordkeeping system and Collect and use data to monitor program performance and continuous improvement, and conduct a self-assessment and community assessment | 2,900 | 1 | 79 | 229,100
If deficient, EHS or HS program submits Quality Improvement Plan | 100 | 1 | 10 | 1,000
Reporting child incidents | 131 | 1 | 0.083 | 11
Submit proof of coverage | 2,900 | 1 | 0.166 | 481
Parental Consent, Annual Notice, and Recordkeeping of PII Disclosure | 723,000 | 1 | 0.33 | 238,590
Applications for the purchase, construction, or renovation of facilities; record retention and submission of documents on facilities | 250 | 1 | 40 | 10,000
Waiver request | 200 | 1 | 1 | 200
Up-to-date child rosters and lists of adults each child is authorized to be released to are maintained. | 2,900 | 1 | 2 | 5,800
Agencies required to compete will have to complete an application for each grant competed | 75 | 1 | 60 | 4,500
Each Head Start or Early Head Start agency wishing to be renewed for 5 years without competition shall request that status from ACF | 400 | 1 | 0.25 | 100
Updating program and personnel policies and procedures that promote implementation of Head Start standards in the program | 2,900 | 1 | 9 | 26,100

Estimated Total Annual Burden Hours: 2,526,034.

Authority: Section 641A of the Head Start Act, 42 U.S.C. 9836A.

Mary C. Jones,
ACF/OPRE Certifying Officer.

[FR Doc. 2024-19051 Filed 8-23-24; 8:45 am]

BILLING CODE 4184-40-P